FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 017992NF.

Name: A&C Import Export Services, Inc.

Address: 6317A 18th Avenue, Suite 302, Brooklyn, NY 11204.

Date Revoked: September 8, 2006.

Reason: Failed to mantain valid bonds.

License Number: 018894N.

Name: Alton Container, Inc.

Address: 12881 Knott Street, Suite 105, Garden Grove, CA 92841.

Date Revoked: August 15, 2006.

Reason: Surrendered license voluntarily.

License Number: 015577N.

Name: American Cargo Shipping Lines, Inc.

Address: 12335 Wake Union Church Rd., Suite 206, Wake Forest, NC 27587.

Date Revoked: August 14, 2006.

Reason: Failed to maintain a valid bond.

License Number: 017986N.

Name: American Freight Forwarders, Inc.

Address: 2633 East 28th Street, Suite 622, Signal Hill, CA 90755.

Date Revoked: September 8, 2006.

Reason: Failed to maintain a valid bond.

License Number: 017034NF.

Name: CF Airfreight Corporation.

Address: 750 South Plaza Drive, Suite 323, Mendota Height, MN 55120.

Date Revoked: July 20, 2006.

Reason: Failed to maintain valid bonds.

License Number: 018168NF.

Name: Casasco & Nardi, Inc.

Address: c/o Distribution-Publication, Inc., 7982 Capwell Drive, Oakland, CA 94621.

Date Revoked: July 28, 2006.

Reason: Surrendered license voluntarily.

License Number: 016355N.

Name: Consolidated Freightways Corporation of Delaware.

Address: 175 Linfield Drive, Menlo Park, CA 94025.

Date Revoked: September 2, 2006.

Reason: Failed to maintain a valid bond.

License Number: 015548N.

Name: Demars International, Inc. dba Service America Independent Line.

Address: Cargo Bldg. 67, Suite 3082, JFK Int'l Airport, Jamaica, NY 11430.

Date Revoked: September 14, 2006.

Reason: Failed to maintain a valid bond.

License Number: 002279N.

Name: Master Forwarding Network, Inc. dba Transoceanic Container Lines.

Address: 3250 Wilshire Blvd., Suite 1111, Los Angeles, CA 90010.

Date Revoked: September 14, 2006.

Reason: Failed to maintain a valid bond.

License Number: 018722N.

Name: Monarch Logistics LLC.

Address: 41 Los Altos Road, Orinda, CA 94563.

Date Revoked: August 25, 2006.

Reason: Failed to maintain a valid bond.

License Number: 014266N.

Name: Pacific Cargo, Inc.

Address: 2251 West Irving Park Rd., Chicago, IL 60618.

Date Revoked: August 25, 2006.

Reason: Failed to maintain a valid bond.

License Number: 012417N.

Name: Solex Express Inc.

Address: 1200 Brunswick Avenue, Far Rockaway, NY 11690.

Date Revoked: July 20, 2006.

Reason: Failed to maintain a valid bond.

License Number: 012629N.

Name: T & T Shipping Services, Inc.

Address: 2546 Pitkin Avenue, Brooklyn, NY 11208

Date Revoked: September 2, 2006.

Reason: Failed to maintain a valid bond.

Peter J. King,
Deputy Director, Bureau of Certification and Licensing.

[FR Doc. E6-15881 Filed 9-26-06; 8:45 am]

BILLING CODE 6730-01-P